SMALL BUSINESS ADMINISTRATION

[License No. 03/03-0290]

Canapi Ventures SBIC Fund II, L.P.; Notice Seeking Exemption Under Section 312 of the Small Business Investment Act, Conflicts of Interest

Notice is hereby given that Canapi Ventures SBIC Fund II, L.P., 801 17th Street NW, Suite 1050, Washington, DC 20006, a Federal Licensee under the Small Business Investment Act of 1958, as amended (“the Act”), in connection with the financing of a small concern, has sought an exemption under Section 312 of the Act and 13 CFR 107.730, Financings which constitute conflicts of interest of the Small Business Administration (“SBA”) regulations. An Associate of Canapi Ventures SBIC Fund II, L.P. owns more than 10% of the equity interests in Elpha Secure Technology Inc., 576 Fifth Avenue, Suite 903, New York, NY 10036, thereby making Elpha Secure Technology Inc. an Associate.

The financing is brought within the purview of § 107.730(a) of the regulations because Canapi Ventures SBIC Fund II, L.P. and Elpha Secure Technology Inc. are Associates and Canapi Ventures SBIC Fund II, L.P. is seeking to invest capital in Elpha Secure Technology Inc. Therefore, this transaction is considered financing an Associate, requiring a prior SBA exemption.

Notice is hereby given that any interested person may submit written comments on the transaction, within fifteen days of the date of this publication, to the Associate Administrator, Office of Investment and Innovation, U.S. Small Business Administration, 409 Third Street SW, Washington, DC 20416.

Bailey DeVries,
Associate Administrator, Office of Investment and Innovation, U.S. Small Business Administration.

[FR Doc. 2022-23522 Filed 10-27-22; 8:45 am]

BILLING CODE 8026-09-P